DEPARTMENT OF COMMERCE

National Oceanic and Atmospheric Administration

Agency Information Collection Activities; Submission to the Office of Management and Budget (OMB) for Review and Approval; Comment Request; a Coastal Management Needs Assessment and Market Analysis for Financing Resilience

AGENCY: National Oceanic and Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 29, 2021.

ADDRESSES: Interested persons are invited to submit written comments to Adrienne Thomas, NOAA PRA Officer, at Adrienne.Thomas@noaa.gov. Do not submit Confidential Business Information or otherwise sensitive or protected information.

FOR FURTHER INFORMATION CONTACT: Requests for additional information or specific questions related to collection activities should be directed to Kim Penn, NOAA Office for Coastal Management, 1305 East-West Hwy. Silver Spring, MD 20910, (240) 533-0727, and kim.penn@noaa.gov.

SUPPLEMENTARY INFORMATION:

I. Abstract

This request is for a new information collection.

NOAA's Office for Coastal Management (OCM) and its regional, state, federal, and non-profit partners have worked closely with coastal managers across the country to increase the resilience of our coastal communities, economies, and ecosystems. Per the Coastal Zone Management Act of 1972 (CZMA), OCM provides financial and technical assistance to states and territories, including that which helps its customers (coastal managers) develop hazard mitigation and climate adaptation plans that include strategies for short-term responses to immediate threats (e.g., flooding, hurricanes) as well as long-term responses to gradual changes (e.g., sea level rise, drought). Services are provided through outreach, training, funding, resource, and tool development.

Solutions to these resilience challenges are often complex and cross-sectoral. Therefore, coastal decision-makers regularly point to the need for more substantial, coordinated, sustained and creative funding opportunities to support these efforts. The results of an initial review of more than 200 resources that NOAA conducted in support of this effort, and informal conversations with NOAA customers and other stakeholders indicate that there is no comprehensive inventory or guide to understanding and selecting appropriate funding options or financing strategies. These findings have been further confirmed in subsequent informal discussions with coastal resilience and finance practitioners at national venues such as the National Adaptation Forum in April 2019 and Social Coast Forum in February 2020. NOAA's coastal management partners have requested support on this topic.

The financing world is one that is constantly evolving new products and retiring others. The range of funding and financing options, from grants and low-interest loans to more innovative private-public partnerships and emerging bonds, presents an ever-changing and complex array of choices. In initial internal communications and informal discussions conducted between June 2018 and February 2020, NOAA customers indicated that these opportunities and mechanisms are not well understood, and are generally inaccessible to coastal managers, particularly in small to mid-sized communities, rural areas, and tribal communities.

In many coastal communities, investment in mitigation and resilience measures remains either limited or reactive in response to a catastrophic event. While there are no data on the number of adaptations plans that have been implemented, lack of funding is a frequently cited barrier to implementation. At the same time, it has been estimated that investing in mitigation can save communities $6 for every $1 spent through mitigation grants from agencies including the Federal Emergency Management Agency, Department of Housing and Urban Development, and Economic Development Administration (according to the National Institute of Building Sciences' October 2018 report, Natural Hazard Mitigation Saves: Utilities and Transportation Infrastructure). Understanding the suite of funding and financing options available at the time resilience planning is undertaken, and then incorporating financial strategies into the planning process and recommendations, will help ensure that these plans are implemented. Section 310 of the Coastal Zone Management Act allows for technical assistance and management-oriented research to develop and implement state coastal management program amendments.

NOAA is in the process of developing a needs assessment to define the types of funding, financing mechanisms, and associated resources that its state and local coastal manager customers need for coastal resilience activities and a market analysis of existing funding and financing programs and mechanisms. Simultaneously, NOAA is identifying existing resources and partnership opportunities for state and local coastal managers and NOAA's non-profit, academic, and other customers.

This request is for a set of related interviews to facilitate this research. NOAA will perform interviews with state and local coastal managers, as well as representatives from non-profit organizations, academia, the federal government, and the finance industry. The interviews will collect relevant information from interviewees on their experiences with coastal resilience funding and financing mechanisms, challenges and opportunities related to funding and financing coastal resilience, and technical support needs and opportunities that NOAA can address.

The information provided by interviewees will be synthesized into the needs assessment, which will address needs and information gaps partitioned by region, financial scale, time scale, and scope/sector. The information provided by interviewees will also be used to help inform an inventory of existing entities providing resources for resilience funding, as well as a summary of existing and emerging funding sources and financial tools and mechanisms for coastal resilience. Finally, the interviews will inform recommendations on NOAA's potential niche in addressing the identified needs and gaps.

The resulting research (and any subsequent resources or tools developed by NOAA to address identified gaps) will provide much needed information to NOAA's customers on funding and financing coastal resilience efforts, including available resources and mechanisms, best practices and strategies, real world success stories, and opportunities for technical and financial partnerships with private and public entities.

II. Method of Collection

Information will be collected during structured telephone interviews.

III. Data

OMB Control Number: 0648-xxxx.

Form Number(s): None.

Type of Review: Regular submission.

Affected Public: Business or other for-profit organizations; Not-for-profit institutions; State, Local, or Tribal government; Federal government.

Estimated Number of Respondents: 36.

Estimated Time per Response: 1.25 hours.

Estimated Total Annual Burden Hours: 45.

Estimated Total Annual Cost to Public: $0.

Respondent's Obligation: Voluntary.

Legal Authority: Coastal Zone Management Act of 1972 (CZMA).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-01856 Filed 1-27-21; 8:45 am]

BILLING CODE 3510-JS-P